DEPARTMENT OF COMMERCE

International Trade Administration

[A-489-807]

Certain Steel Concrete Reinforcing Bars From Turkey; Final Results, Rescission of Antidumping Duty Administrative Review in Part, and Determination Not To Revoke in Part

AGENCY: Import Administration, International Trade Administration, Department of Commerce.

ACTION: Notice of final results of antidumping duty administrative review.

SUMMARY: On May 5, 2004, the Department of Commerce (the Department) published the preliminary results of the administrative review of the antidumping duty order on certain steel concrete reinforcing bars from Turkey (69 FR 25063). This review covers three manufacturers/exporters of the subject merchandise to the United States. The period of review (POR) is April 1, 2002, through March 31, 2003. We are rescinding the review with respect to 19 companies because they had no shipments of subject merchandise to the United States during the POR. In addition, we have determined not to revoke the antidumping duty order with respect to an additional exporter, ICDAS Celik Enerji Tersane ve Ulasim Sanayi, A.S. (ICDAS).

Based on our analysis of the comments received, we have made changes in the margin calculations. Therefore, the final results differ from the preliminary results. The final weighted-average dumping margins for the reviewed firms are listed below in the section entitled “Final Results of Review.”

EFFECTIVE DATE: November 8, 2004.

FOR FURTHER INFORMATION CONTACT: Irina Itkin or Elizabeth Eastwood, Office of AD/CVD Enforcement, Office 2, Import Administration, International Trade Administration, U.S. Department of Commerce, 14th Street and Constitution Avenue, NW, Washington, DC, 20230; telephone (202) 482-0656 and (202) 482-3874, respectively.

SUPPLEMENTARY INFORMATION:

Background

This review covers the following three manufacturers/exporters: Colakoglu Metalurji A.S. and Colakoglu Dis Ticaret (collectively “Colakoglu”); Diler Demir Celik Endustrisi ve Ticaret A.S., Yazici Demir Celik Sanayi ve Ticaret A.S., and Diler Dis Ticaret A.S. (collectively “Diler”); and ICDAS.

On May 5, 2004, the Department published in the Federal Register the preliminary results of administrative review of the antidumping duty order on certain steel concrete reinforcing bars (rebar) from Turkey. See Certain Steel Concrete Reinforcing Bars from Turkey; Preliminary Results of Antidumping Duty Administrative Review and Notice of Intent Not to Revoke in Part, 69 FR 25063 (May 5, 2004) (Preliminary Results).

Prior to the preliminary results the following companies informed the Department that they had no shipments of subject merchandise to the United States during the POR: Cebitas Demir Celik Endustrisi A.S. (Cebitas), Cemtas Celik Makina Sanayi ve Ticaret A.S. (Cemtas), Demirsan Haddecilik Sanayi ve Ticaret A.S. (Demirsan), Ege Celik Endustrisi Sanayi ve Ticaret A.S. (Ege Celik), Ekinciler Holding A.S. and Ekinciler Demir Celik San A.S. (collectively “Ekinciler”), Habas Sinai ve Tibbi Gazlar Istihal Endustrisi A.S. (Habas), Iskenderun Iron & Steel Works Co. (Iskenderun), Izmir Demir Celik Sanayi A.S. (Izmir), Kaptan Demir Celik Endustrisi ve Ticaret A.S. (Kaptan), Kardemir—Karabuk Demir Celik Sanayi ve Ticaret A.S. (Karabuk), Kroman Celik Sanayi A.S. (Kroman), Metas Izmir Metalurji Fabrikasi Turk A.S. (Metas), Nurmet Celik Sanayi ve Ticaret A.S. (Nurmet), Nursan Celik Sanayi ve Haddecilik A.S. (Nursan), Sivas Demir Celik Isletmeleri A.S. (Sivas), Tosyali Demir Celik Sanayi A.S. (Tosyali), and Ucel Haddecilik Sanayi ve Ticaret A.S. (Ucel). We reviewed data from U.S. Customs and Border Protection (CBP) and confirmed that there were no entries of subject merchandise from any of these companies during the POR, except for Habas. We also confirmed with CBP data that two additional companies included in this review, Ege Metal Demir Celik Sanayi ve Ticaret A.S. (Ege Metal) and Kurum Demir Sanayi ve Ticaret Metalenerji A.S. (Kurum), did not have entries of subject merchandise during the POR. Consequently, in accordance with 19 CFR 351.213(d)(3) and consistent with our practice, we are rescinding the review for the companies listed above. Furthermore, we are rescinding our review for Habas because we find that this company did not have any reviewable entries during this POR. For further discussion, see the “Partial Rescission of Review” section of this notice, below, and Comment 14 of the “Issues and Decision Memorandum” (Decision Memo) from Jeffrey A. May, Deputy Assistant Secretary for Import Administration, to James J. Jochum, Assistant Secretary for Import Administration, dated November 1, 2004.

We invited parties to comment on our preliminary results of review. In June 2004, we received case briefs from the petitioners (i.e., Gerdau AmeriSteel Corporation, Commercial Metals Company (SMI Steel Group), and Nucor Corporation), Colakoglu, and ICDAS, and rebuttal briefs from the petitioners, Colakoglu, ICDAS, Habas, and Diler.

The Department has conducted this administrative review in accordance with section 751 of the Act.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2002, through March 31, 2003.

Partial Rescission of Review

As noted above, Cebitas, Cemtas, Demirsan, Ege Celik, Ege Metal, Ekinciler, Iskenderun, Izmir, Kaptan, Karabuk, Kroman, Kurum, Metas, Nurmet, Nursan, Sivas, Tosyali, and Ucel had no shipments and/or entries of subject merchandise to the United States during the POR. We have confirmed this with CBP data. Therefore, in accordance with 19 CFR 351.213(d)(3) and consistent with the Department's practice, we are rescinding our review with respect to these companies. (See, e.g., Certain Steel Concrete Reinforcing Bars from Turkey; Final Results, Rescission of Antidumping Administrative Review in Part, and Determination Not to Revoke in Part, 68 FR 53127, 53128 (Sept. 9, 2003).)

Furthermore, with regard to Habas, we preliminarily determined that Habas did not have any reviewable entries of subject merchandise during the POR. Information from CBP indicates that there were entries of subject merchandise produced by Habas during the POR. However, the exporter of this merchandise was an unaffiliated company in a third country, and Habas provided documentation to support its claim that it did not have knowledge that this merchandise was destined for the United States. Consequently, we continue to find that Habas did not have any reviewable entries during this POR. See Comment 14 of the Decision Memo. Accordingly, we are rescinding our review for Habas.

Cost of Production

As discussed in the Preliminary Results, we conducted an investigation to determine whether the respondents participating in the review made home market sales of the foreign like product during the POR at prices below their costs of production (COPs) within the meaning of section 773(b)(1) of the Tariff Act of 1930, as amended (the Act). We performed the cost test for these final results following the same methodology as in the Preliminary Results, except as discussed in the accompanying Decision Memo.

We found 20 percent or more of each respondent's sales of a given product during the reporting period were at prices less than the weighted-average COP for this period. Thus, we determined that these below-cost sales were made in “substantial quantities” within an extended period of time and at prices which did not permit the recovery of all costs within a reasonable period of time in the normal course of trade. See sections 773(b)(2)(B), (C), and (D) of the Act.

Therefore, for purposes of these final results, we found that Colakoglu, Diler, and ICDAS made below-cost sales not in the ordinary course of trade. Consequently, we disregarded these sales for each respondent and used the remaining sales as the basis for determining normal value, pursuant to section 773(b)(1) of the Act.

Analysis of Comments Received

All issues raised in the case briefs by parties to this administrative review and to which we have responded are listed in the Appendix to this notice and addressed in the Decision Memo, which is adopted by this notice. Parties can find a complete discussion of all issues raised in this review and the corresponding recommendations in this public memorandum, which is on file in the Central Records Unit, room B-099, of the main Department building.

In addition, a complete version of the Decision Memo can be accessed directly on the Web at http://ia.ita.doc.gov/frn. The paper copy and electronic version of the Decision Memo are identical in content.

Changes Since the Preliminary Results

Based on our analysis of comments received, we have made certain changes in the margin calculations. These changes are discussed in the relevant sections of the Decision Memo.

Final Results of Review

We determine that the following weighted-average margin percentages exist for the period April 1, 2002, through March 31, 2003:

Manufacturer/producer/exporter | Margin percentage
Colakoglu | 9.25
Diler | 0.38
ICDAS | 0.00

The Department will determine, and CBP shall assess, antidumping duties on all appropriate entries. In accordance with 19 CFR 351.212(b)(1), for ICDAS we have calculated importer-specific assessment rates based on the ratio of the total amount of antidumping duties calculated for the examined sales to the total entered value of those sales.

Regarding all of Colakoglu and Diler's sales, for assessment purposes, we do not have the information to calculate entered value because these companies were not the importers of record for the subject merchandise. To determine whether the duty assessment rates were de minimis, in accordance with the requirement set forth in 19 CFR 351.106(c)(2), we have calculated importer-specific ad valorem ratios based on the export prices. Pursuant to 19 CFR 351.106(c)(2), we will instruct CBP to liquidate without regard to antidumping duties any entries for which the assessment rate is de minimis (i.e., less than 0.50 percent). The Department will issue appraisement instructions directly to CBP within 15 days of publication of these final results of review.

Cash Deposit Requirements

The following deposit requirements will be effective upon publication of this notice of final results of administrative review for all shipments of rebar from Turkey entered, or withdrawn from warehouse, for consumption on or after the date of publication, as provided by section 751(a)(1) of the Act: 1) The cash deposit rates for the reviewed companies will be the rates indicated above; 2) for previously investigated companies not listed above, the cash deposit

rate will continue to be the company-specific rate published for the most recent period; 3) if the exporter is not a firm covered in this review, or the less-than-fair-value (LTFV) investigation, but the manufacturer is, the cash deposit rate will be the rate established for the most recent period for the manufacturer of the merchandise; and 4) the cash deposit rate for all other manufacturers or exporters will continue to be 16.06 percent, the all others rate established in the LTFV investigation.

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination and notice in accordance with sections 751(a)(1) and 777(i) of the Act.

Dated: November 1, 2004.
James J. Jochum,
Assistant Secretary for Import Administration.

Appendix Issues in Decision Memorandum

Comments

1. Treatment of Section 201 Duties

2. Application of High Inflation/Replacement Cost Methodology

3. Inputs Purchased from Affiliated Parties

4. Treatment of Packing Expenses in the General and Administrative (G&A) and Interest Expense Calculations

5. Date of Sale for Colakoglu

6. Universe of Reviewed Transactions for Colakoglu

7. Home Market Credit Expenses for Colakoglu

8. Commission Offset for Colakoglu

9. Despatch Revenue and Demurrage Expenses for Colakoglu

10. Period of Review for Diler

11. Inland Freight Supplied by Diler's Affiliate

12. Home Market Credit Expenses for Diler

13. G&A Ratio for Diler

14. POR Entries of Merchandise Produced by Habas

15. Revocation for ICDAS

16. Collapsing Issue for ICDAS

17. Whether to Treat ICDAS's U.S. Sales as Export Price (EP) or Constructed Export Price (CEP) Sales

18. Short-term Interest Rates Used for ICDAS

19. Standard Rolling Times for ICDAS

20. Prior Period Reversals for ICDAS

21. Gain on Sale of Ship for ICDAS

[FR Doc. E4-3072 Filed 11-5-04; 8:45 am]

BILLING CODE: 3510-DS-S